DEPARTMENT OF ENERGY

Federal Energy Regulatory Commission

[Project No. 2232-581]

Duke Energy Carolinas, LLC; Notice of Availability of Environmental Assessment

In accordance with the National Environmental Policy Act of 1969, as amended, and the Federal Energy Regulatory Commission's (Commission) regulations (18 CFR Part 380), Commission staff has reviewed plans, filed April 2011, and supplemented February 14, 2012, to perform embankment seismic stability improvement (ESSI) work at Linville Dam, part of the Catawba-Wateree Hydroelectric Project's Bridgewater Development, which is located on the Catawba River in McDowell and Burke counties, North Carolina. The project is located in nine counties in North Carolina and five counties in South Carolina.

As planned by the project licensee, Duke Energy Carolinas, LLC (Duke Energy), the ESSI work would involve the installation of a counterweight stability berm against the downstream face of Linville Dam. The ESSI work is necessary because it has been determined that Linville Dam could fail during a seismic event (identified as an earthquake of approximately magnitude 5.4). Accordingly, the Commission is requiring remediation under Part 12 of its regulations. In the environmental assessment (EA), Commission staff has analyzed the probable environmental effects of the planned work and has concluded that approval of the work, with appropriate environmental measures, would not constitute a major Federal action significantly affecting the quality of the human environment.

A copy of the EA is available at the Commission's Public Reference Room, located at 888 First Street NE., Room 2A, Washington, DC 20426. The EA may also be viewed on the Commission's Web site at http://www.ferc.gov using the “eLibrary” link. Enter the docket number (P-2232) in the docket number field to access the document. For assistance, contact FERC Online Support at FERCOnlineSupport@ferc.gov or call toll-free at 1-866-208-3372, or for TTY, (202) 502-8659.

Dated: April 23, 2013.
Kimberly D. Bose,
Secretary.

[FR Doc. 2013-10133 Filed 4-29-13; 8:45 am]

BILLING CODE 6717-01-P